DEPARTMENT OF TRANSPORTATION

Office of the Secretary

Aviation Proceedings, Agreements Filed the Week Ending October 13, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-26088.

Date Filed: October 11, 2006.

Parties: Members of the International Air Transport Association.

Subject: TC23 Mail Vote 508, Between Europe and South Asian Subcontinent, (Memo 0150),

Intended effective date: 1 November 2006, (Memo 0150).

Docket Number: OST-2006-26089-1.

Date Filed: October 11, 2006.

Parties: Members of the International Air Transport Association.

Subject: TC23/TC123 Europe-South West Pacific, Expedited Resolution 002dp, Between Europe and South Asian Subcontinent, (Memo 0108),

Intended effective date: 1 November 2006.

Renee V. Wright,
Program Manager, Docket Operations, Federal Register Liaison.

[FR Doc. E6-19033 Filed 11-8-06; 8:45 am]

BILLING CODE 4910-9X-P